DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. 3501 et seq.), this notice announces that the Information Collection Request (ICR) abstracted below will be submitted to the Office of Management and Budget (OMB) for review. The ICR describes the nature of the information collection and its expected burden. A Federal Register Notice with a 60-day comment period soliciting public comment on the following information collection was published on December 9, 2010 (75 FR 76781-76783).

DATES: Submit comments to the Office of Management and Budget (OMB) on or before April 7, 2011.

ADDRESSES: Send comments to the Office of Information and Regulatory Affairs, Office of Management and Budget, 725 17th Street, NW., Washington, DC 20503, Attention: Desk Officer for Department of Transportation, National Highway Traffic Safety Administration.

FOR FURTHER INFORMATION CONTACT: Alan Block at the National Highway Traffic Safety Administration, Office of Behavioral Safety Research (NTI-131), 1200 New Jersey Avenue, SE., Washington, DC 20590. Mr. Block's phone number is 202-366-6401 and his e-mail address is alan.block@dot.gov.

SUPPLEMENTARY INFORMATION: Title: Evaluation Surveys for Impaired Driving and Seat Belt Interventions.

OMB Number: 2127-0646.

Type of Request: Revision.

Abstract: Telephone surveys have been an important component in NHTSA's evaluation of seat belt and alcohol-impaired driving intervention activity. They have been used to measure public awareness of intervention campaigns, penetration of campaign messages, and perceived risk of negative consequences from engaging in proscribed behavior. The surveys have typically followed a pre-post design, where differences between an initial baseline survey wave and a later survey wave were associated with an intervening intervention. NHTSA has found such surveys to be valuable in assessing the multi-million dollar national media campaigns conducted for the National Impaired Driving Crackdowns and the National Click It or Ticket Mobilizations. They also have been useful in evaluating localized programs that tested variants of intervention models by providing information to assess campaign communications or interpret collected behavioral measures. With seat belt and alcohol-impaired driving intervention activity anticipated to remain heavy for the foreseeable future, there is a need for NHTSA to continue to apply these data collection techniques to see if the campaigns are achieving their objectives.

NHTSA is proposing to continue conducting national telephone surveys surrounding the National Impaired Driving Crackdowns and National Click It or Ticket Mobilizations. In conducting one or more of the National surveys, NHTSA may have a need to collect information to assess localized activity associated with the National Crackdown or Mobilization. This would involve augmentation of the pre- and post national sample with one or more Regional, State, or Community samples. In addition to the telephone surveys associated with the National Impaired Driving Crackdown and National Click It or Ticket Mobilization, NHTSA intends to conduct telephone surveys to assess selected demonstrations of interventions designed to reduce alcohol-impaired driving and/or increase seat belt use. The surveys will also follow a pre-post design. Interventions sustained over an extended period of time may add one or more interim survey waves.

NHTSA currently has an approved inventory of 164,800 10-minute interviews under OMB Number 2127-0646 for surveys to help assess the National Impaired Driving Crackdowns, the National Click It or Ticket Mobilizations, and certain localized seat belt or alcohol-impaired driving demonstration projects. To date, approximately 59,000 interviews have either been completed or are scheduled to be completed prior to an OMB decision regarding this requested revision. The requested revision is to decrease the inventory to 160,211 while renewing the clearance for three more years.

Affected Public: Randomly selected members of the general public eighteen and older in telephone households.

Estimated Total Annual Burden: 5,600 hours per year (33,600 10-minute interviews) divided as follows: 2,000 hours (12,000 interviews) for national surveys associated with the National Impaired Driving Crackdowns or National Click It or Ticket Mobilizations, 1,333 hours (8,000 interviews) for localized surveys associated with the National Crackdowns or Mobilizations, and 2,267 hours (13,600 interviews) for other selected seat belt or alcohol-impaired driving demonstrations. Over a three year period this would be 16,800 hours for 100,800 interviews.

Comments are invited on: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Authority: 44 U.S.C. Section 3506(c)(2)(A).

Jeffrey Michael,
Associate Administrator, Research and Program Development.

[FR Doc. 2011-5216 Filed 3-7-11; 8:45 am]

BILLING CODE 4910-59-P